DEPARTMENT OF INTERIOR

Fish and Wildlife Service

Notice of Intent To Prepare Comprehensive Plan and Environmental Assessment for Arapaho National Wildlife Refuge, Walden, CO

AGENCY: Fish and Wildlife Service, Interior.

ACTION: Notice of intent.

SUMMARY: This notice advises that the U.S. Fish and Wildlife Service intends to gather information necessary to prepare a Comprehensive Conservation Plan and associated environmental documents for Arapaho National Wildlife Refuge in north-central Colorado. Arapaho National Wildlife Refuge manages Bamforth National Wildlife Refuge, Mortenson Lake National Wildlife Refuge, Hutton Lake National Wildlife Refuge, and Pathfinder National Wildlife Refuge, all located in Wyoming.

However, CCPs for these Arapaho NWR stations in Wyoming will not be prepared concurrent with the CCP for Arapaho NWR. The Service is furnishing this notice in compliance with Service CCP policy to advise other agencies and the public of its intentions and to obtain suggestions and information on the scope of issues to be considered in the planning process.

DATES: Written comments should be received by December 26, 2000.

ADDRESSES: Comments and requests for more information regarding Arapaho NWR should be sent to Bernardo Garza. Planning Team Leader, Division of Planning, PO Box 25486, DFC, Denver, CO 80225.

FOR FURTHER INFORMATION CONTACT:

Bernardo Garza, Planning Team Leader, Division of Planning, PO Box 25486, DFC, Denver, CO 80225; or

Michael Spratt, Chief, Division of Planning, PO Box 25486, DFC, Denver, CO 80225.

SUPPLEMENTARY INFORMATION: The Service has initiated Comprehensive Conservation Planning for the Arapaho National Wildlife Refuge near Walden, Colorado.

Each National Wildlife Refuge has specific purposes for which it was established and for which legislation was enacted. Those purposes are used to develop and prioritize management goals and objectives within the National Wildlife Refuge System mission and to guide which public uses will occur on the Refuge. The planning process is a way for the Service and the public to evaluate management goals and objectives for the best possible conservation efforts of this important wildlife habitat, while providing for wildlife-dependent recreation opportunities that are compatible with each National Wildlife Refuge's establishing purposes and the mission of the National Wildlife Refuge System.

Arapaho National Wildlife Refuge (approximately 24,800 acres) was established in 1967 and is located in an intermountain glacial basin immediately south of Walden (county seat of Jackson County, Colorado) in a 45-mile long basin commonly known as North Park. Current public use opportunities at this Refuge include wildlife observation, photography, and fishing.

The Service will conduct a comprehensive conservation planning process that will provide opportunity for Tribal, State, and local governments, agencies, organizations, and the public to participate in issue scoping and public comment. The Service is requesting input for issues, concerns, ideas, and suggestions for the future management of Arapaho National Wildlife Refuge in north-central Colorado. Anyone interested in providing input is invited to respond to the following three questions:

(1) What makes Arapaho NWR special or unique for you?

(2) What problems or issues do you want to see addressed in the Comprehensive Conservation Plan?

(3) What improvements would you recommend for Arapaho NWR?

The Service has provided the above questions for your optional use; you are not required to provide information to the Service. The Planning Team developed these questions to facilitate finding out more information about individual issues and ideas concerning these Refuges. Comments received by the Planning Team will be used as part of the planning process; individual comments will not be referenced in our reports or directly responded to.

An opportunity will be given to the public to provide input at open houses to scope issues and concerns (schedules can be obtained from the Planning Team Leaders at the above addresses). Comments may also be submitted anytime during the planning process by writing to the above addresses. All information provided voluntarily by mail, phone, or at public meetings becomes part of the official public record (i.e., names, addresses, letters of comment, input recorded during meetings). If requested under the Freedom of Information Act by a private citizen or organization, the Service may provide informational copies.

The environmental review of this project will be conducted in accordance with the requirements of the National Environmental Policy Act of 1969, as amended (42 U.S.C. 4321 et seq.), NEPA Regulations (40 CFR parts 1500-1508), and other appropriate Federal laws and regulations, and Service policies and procedures for compliance with those regulations.

All comments received from individuals on Service Environmental Assessments and Environmental Impact Statements become part of the official public record. Requests for such comments will be handled in accordance with the Freedom of Information Act, NEPA (40 CFR 1506.6(f)), and other Departmental and Service policy and procedures. When requested, the Service generally will provide comment letters with the names and addresses of the individuals who wrote the comments.

However, the telephone number of the commenting individual will not be provided in response to such requests to the extent permissible by law. Additionally, public comment letters are not required to contain the commentator's name, address, or any other identifying information. Such comments may be submitted anonymously to the Service.

Dated: November 15, 2000.
Elliott Sutta,
Regional Director, Denver, Colorado.

[FR Doc. 00-29960 Filed 11-22-00; 8:45 am]

BILLING CODE 4310-55-M